DEPARTMENT OF VETERANS AFFAIRS

Enhanced-Use Lease of VA Property for the Development and Operation of an Assisted Living Facility in Viera, FL

AGENCY: Department of Veterans Affairs (VA).

ACTION: Notice of Intent to Enter into an Enhanced-Use Lease.

SUMMARY: The Secretary of the Department of Veterans Affairs (VA) intends to enter into an enhanced-use lease of approximately 15 acres of undeveloped VA land adjacent to the existing Viera VA Outpatient Clinic in Viera, Florida. The selected lessee will finance, design, develop, construct, operate, and maintain an assisted living facility consisting of not less than 50 units on the property. The lessee will be required to provide VA with agreed-upon lease payments and in-kind consideration consisting of priority placement and a discount rental rate eligible veterans will pay to reside in the assisted living facility.

FOR FURTHER INFORMATION CONTACT: Jim Lavery, Office of Asset Enterprise Management (004B), Department of Veterans Affairs, 810 Vermont Avenue, NW., Washington, DC 20420, (202) 273-9583.

SUPPLEMENTARY INFORMATION: Title 38 U.S.C. 8161, et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: September 27, 2007.
R. James Nicholson,
Secretary of Veterans Affairs.

[FR Doc. E7-19486 Filed 10-2-07; 8:45 am]

BILLING CODE 8320-01-P